DEPARTMENT OF AGRICULTURE

Farm Service Agency

Information Collection Request; Certified State Mediation Program

AGENCY: Farm Service Agency, USDA.

ACTION: Notice of information collection; request for comment.

SUMMARY: In accordance with the Paperwork Burden Act of 1995, the Farm Service Agency (FSA) is requesting comments from all interested individuals and organizations for a revision with an extension of a currently approved Information Collection Request that supports the Certified State Mediation Program. The information collection is necessary to ensure that the grant program is administered properly. The collection of information is used to determine whether participants meet the eligibility requirements to be a recipient of grant funds. Lack of adequate information to make the determination could result in the improper administration of Federal grant funds.

DATES: We will consider comments we receive by September 18, 2017.

ADDRESSES: We invite you to submit comments on this notice. In your comment, include volume, date, and page number of this issue of the Federal Register. You may submit comments by any of the following methods:

• Federal eRulemaking Portal: Go to: www.regulations.gov. Follow the online instructions for submitting comments.

• Mail, hand delivery, or courier: Tracy Jones, Agricultural Loan and Grants Program Specialist, USDA, FSA, Stop 0521, 1400 Independence Avenue SW., Washington, DC 20250.

You may also send comments to the Desk Officer for Agriculture, Office of Information and Regulatory Affairs, Office of Management and Budget, Washington, DC 20503. Copies of the information collection may be requested by contacting Tracy Jones at the above address.

FOR FURTHER INFORMATION CONTACT: For specific questions related to collection activities, Tracy Jones (202) 720-6771.

SUPPLEMENTARY INFORMATION: Title: Certified State Mediation Program (7 CFR 785).

OMB Control Number: 0560-0165.

Expiration Date of Approval: December 31, 2017.

Type of Request: Revision and extension.

Abstract: FSA administers the Certified State Mediation Program (Program) according to Subtitles A and B of Title V of the Agricultural Credit Act of 1987 (7 U.S.C. 5106).

To effectively administer the Program, FSA requires an application for recertification, which includes submission of a letter from the State, a letter from the grantee, SF-424, SF-424A, SF-424B, and SF-425. Approved grantees provide a mid-year report as well as an annual report that includes information on mediation services provided during the preceding Federal fiscal year, assessment of the performance and effectiveness of the State's Program, and any other matters related to the Program as the State elects to include. In addition, approved grantees complete SF-270 to request either advance funding or reimbursement of expenses already paid. The information requested is necessary for FSA to determine the grantee's eligibility and administer the Program effectively.

The number of state-certified mediation programs has increased over the past several years. The increase in burden hours reflects this change.

For the following estimated total annual burden on respondents, the formula used to calculate the total burden hours is the estimated average time per response multiplied by the estimated total annual responses.

Estimate of Average Time To Respond: Public reporting burden for collecting information under this notice is estimated to average 2.08 hour per response, including the time for reviewing instructions, searching existing data sources, gathering and maintaining the data needed, and completing and reviewing the collections of information.

Type of Respondents: State.

Estimated Number of Respondents: 164.

Estimated Average Number of Responses per Respondent: 1.50.

Estimated Total Annual Responses: 246.

Estimated Average Time per Response: 2.083.

Estimated Total Annual Burden on Respondents: 512.5 hours.

We are requesting comments on all aspects of this information collection to help FSA:

(1) Evaluate whether the proposed collection of information is necessary for the proper performance of the functions of the agency, including whether the information will have practical utility;

(2) Evaluate the accuracy of the agency's estimate of burden of the collection of information including the validity of the methodology and assumptions used;

(3) Evaluate the quality, ability and clarity of the information technology; and

(4) Minimize the burden of the information collection on those who respond through the use of appropriate automated, electronic, mechanical, or other technological collection techniques or other forms of information technology.

All comments received in response to this notice, including names and addresses when provided, will be made a matter of public record. Comments will be summarized and included in the submission for Office of Management and Budget approval.

Chris P. Beyerhelm,
Acting Administrator, Farm Service Agency.

[FR Doc. 2017-15066 Filed 7-18-17; 8:45 am]

BILLING CODE 3410-05-P